DEPARTMENT OF STATE

[Delegation of Authority 270]

Exemptions From US-VISIT

By virtue of the authority vested in me as Secretary of State, including the authority of section 1 of the State Department Basic Authorities Act of 1956 (22 U.S.C. 2651a), as amended, and the authority conferred on me by 8 CFR 215.8(a)(2)(iv) and 235.1 (d)(1)(iv)(D), I hereby delegate to Richard H. Jones the authority to determine that requirements for fingerprinting and photographing or for providing other specified biometric identifiers shall not apply to an individual nonimmigrant alien upon arrival or departure from the United States. Such a determination may be made only for an individual when it is in the national interest to do so and it will not compromise national security interests. All such exemptions and the factual basis for them shall be documented.

Mr. Jones may exercise this delegated authority only during the period of his detail to the Coalition Provisional Authority in Iraq and only in his capacity as a State Department employee operating under the direction and supervision of the Secretary of State.

Notwithstanding any provision of this Delegation of Authority, the Secretary of State, the Deputy Secretary of State, the Under Secretary for Political Affairs, and the Under Secretary of State for Management may at any time exercise any function delegated by this delegation of authority.

The authority delegated by this delegation may not be redelegated.

The statutes, regulations, and procedures referenced in this delegation shall be deemed to be such statutes, regulations or procedures as amended from time to time.

This delegation shall be published in the Federal Register.

Dated: January 30, 2004.
Colin L. Powell,
Secretary of State, Department of State.

[FR Doc. 04-4009 Filed 2-23-04; 8:45 am]

BILLING CODE 4710-10-P